DEPARTMENT OF COMMERCE

National Oceanic and Atmospheric Administration

50 CFR Part 660

[Docket No. 160808696-7010-02]

RIN 0648-BH47

Magnuson-Stevens Act Provisions; Fisheries Off West Coast States; Pacific Coast Groundfish Fishery; 2017-18 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: This final rule is effective February 2, 2018.

FOR FURTHER INFORMATION CONTACT: Karen Palmigiano, phone: 206-526-4491, fax: 206-526-6736, or email: karen.palmigiano@noaa.gov.

SUPPLEMENTARY INFORMATION:

Electronic Access

This rule is accessible via the internet at the Office of the Federal Register website at https://www.federalregister.gov. Background information and documents are available at the Pacific Fishery Management Council's website at http://www.pcouncil.org/.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

The final rule to implement the 2017-18 harvest specifications and management measures for most species of the Pacific coast groundfish fishery was published on February 7, 2017 (82 FR 9634).

The Council, in coordination with Pacific Coast Treaty Indian Tribes and the States of Washington, Oregon, and California, recommended the following changes to current groundfish management measures at its November 13-20, 2017, meeting: (1) Increasing the big skate trip limits for the shorebased individual fishing quota (IFQ) program, (2) decreasing the sablefish trip limits for limited entry fixed gear (LEFG) and open access (OA) daily trip limit (DTL) fisheries north of 36° North Latitude (N lat.), and (3) increasing the lingcod trip limits for the LEFG and OA fisheries north of 40°10′ N lat.

Big Skate Trip Limits for the Shorebased IFQ Program

At the November 2017 Council meeting, the Council's Groundfish Advisory Subpanel (GAP) recommended higher trip limits for big skate for the shorebased IFQ program in 2018. For 2017-18, the annual catch limit (ACL) was set at 494 metric tons (mt), the fishery harvest guideline (HG) was 437 mt, and the trawl allocation was 414.8 mt, which includes big skate caught by the at-sea fleet. Bi-monthly trip limits for 2017-18 were set at 5,000 pounds (lbs) (January-February), 25,000 lbs (March-April), 30,000 lbs (May-June), 35,000 lbs (July-August), 10,000 lbs (September-October), and 5,000 lbs (November-December).

In November 2017, based on the partial catch data for 2017, the Groundfish Management Team (GMT) estimated that attainment of big skate in the IFQ fishery would be 88 percent for 2018, approximately 365 mt. Given that the projected attainment of big skate was approaching full attainment with status quo trip limits, the GMT modeled modest increases in trip limits for 2018 using the 2016 Groundfish Mortality Report data and 2017 catch data. The GMT's use of the additional 2017 catch data changed the projected 2018 annual targets relative to the original annual targets that were used to set the 2017-18 big skate trip limits. The two trip limit alternatives modeled by the GMT would result in higher estimated attainments (94 and 98 percent) of big skate than the estimated 88 percent attainment under the status quo trip limits. In order to maximize opportunity for vessels and increase attainment, the Council recommended and NMFS is implementing, by modifying Tables 1 (North and South) to part 660, subpart D, the following trip limits for big skate in the IFQ program: Period 1, 5,000 lbs, Period 2, 30,000 lbs, Period 3, 35,000 lbs, Period 4, 40,000 lbs, Period 5, 15,000 lbs, and Period 6, 5,000 lbs. These increased trip limits are expected to increase projected attainment of the big skate IFQ allocation to 98 percent in 2018.

LEFG and OA Sablefish DTL Fisheries North of 36° N Lat.

Sablefish are distributed coastwide with harvest specifications split north and south of 36° N lat. Trip limits in the LEFG and OA DTL fisheries, for species such as sablefish, are intended to keep attainment of the non-trawl HG within the ACL. The trip limits for sablefish for 2017-18 were established through the final rule for the 2017-18 harvest specifications (82 FR 9634) based on catch data through 2015.

Inseason catch data from 2017 suggested possible under-attainment of the sablefish non-trawl HG. During the September 2017 Council meeting, the GMT made model-based landings projections for the LEFG and OA sablefish DTL fisheries north of 36° N lat. for the remainder of 2017 to assist the Council in evaluating potential increases to sablefish trip limits. These projections used the most recent information available, including inseason catch data from 2017, and showed under-attainment of the 2017 sablefish non-trawl HG. Based on these projections, the LEFG and OA sablefish trip limits were raised through an inseason action on October 19, 2017 (82 FR 48656). The 2017 trip limits established through the September inseason action for LEFG and OA sablefish remain in place for 2018 until changed.

At the November 2017 Council meeting, the GMT updated the projections for the attainment of the sablefish HG for 2018 with data through October 31, 2017. These projections showed possible attainment of the sablefish allocation between 95.2 and 125.2 percent for the LEFG fishery, and 78.8 and 98.5 percent for the OA fishery. If the current trip limits remain in place there is a projected potential to exceed the sablefish HG, with attainment greater than one hundred percent in the LEFG fishery north of 36° N and close to one hundred percent in the OA north fishery.

To ensure harvest remains below the sablefish ACL, the Council elected to follow a precautionary approach at the outset of 2018, by recommending decreases to sablefish trip limits in LEFG and OA sablefish DTL fisheries north of 36° N lat. for all periods in 2018. This approach of decreasing trip limits initially minimizes the likelihood of dramatic decreases in trip limits or closures for these fisheries later in the season, if the attainment occurs at a rate that is likely to exceed the sector's HG. With a precautionary approach in earlier periods in the year, trip limits may be increased throughout the year if attainment is projected to remain under the ACL. Trip limits for the LEFG sablefish DTL fisheries north of 36° N lat. are designated at Tables 2 (North and South) to part 660, subpart E. Trip limits for the OA sablefish DTL fishery north of 36° N are designated at Tables 3 (North and South) to part 660, subpart F.

The Council initially recommended a change to sablefish trip limits for all periods for the LEFG fishery. However, because NMFS cannot decrease trip limits in the middle of a trip limit period, NMFS is implementing, by modifying Tables 2 (North and South) to part 660, subpart E, trip limit changes for the LEFG sablefish DTL fisheries north of 36° N lat. for periods 2 through 6 only. The trip limit for these periods (2-6) would be: 1,100 lbs per week, not to exceed 3,300 lbs/2 months. Trip limits for LEFG sablefish DTL fisheries north of 36° N lat. for period 1 will remain as status quo.

The Council also recommended a change to sablefish trip limits for all periods for the OA fishery. However, because NMFS cannot decrease trip limits in the middle of a trip limit period, NMFS is implementing, by modifying Tables 3 (North and South) to part 660, subpart F, trip limits for sablefish in the OA sablefish DTL fishery north of 36° N lat. for periods 2 through 6 only. The trip limit for these periods (2-6) would be: 300 lbs/day, or 1 landing per week up to 1,000 lbs, not to exceed 2,000 lbs/2 months. Trip limits for OA sablefish DTL fisheries north of 36° N lat. for period 1 will remain as status quo.

Under these revised, lower limits, the GMT projects attainment in the LEFG between 75.1 and 102 percent, down from the status quo trip limit attainment between 95.2 and 125.2 percent. OA is predicted to be within 74.2 to 92.7 percent under revised trip limits, down from 78.8 to 98.5 percent under status quo. NMFS and the GMT will continue to monitor attainment of sablefish throughout 2018 and can revise these trip limits through future inseason actions as needed to ensure optimized opportunity is available to harvesters, while maintaining a precautionary approach to remain within the HG.

LEFG and OA Lingcod Fisheries North of 40°10′ N Lat.

Lingcod north of 40°10′ N lat. has had low attainment in recent years (approximately 30 percent in the LEFG and OA, or non-trawl, sectors in 2016). Based on 2015 West Coast Groundfish Observer Program (WCGOP) data, current trip limits are resulting in discards of incidentally caught lingcod that would likely be landed under increased trip limits, as only approximately half of sampled regulatory discards (i.e., 1,400 lbs in OA and 300 lbs in LEFG fishery) were due to minimum size limits; the rest are assumed to be due to reaching trip limits. The primary objective of trip limits for lingcod has been to maximize opportunity while staying within the biological confines of overfished species limits, such as yelloweye rockfish.

No lingcod increases in trip limits were proposed during the 2017-18 biennial harvest specifications and management measures because there were on-going concerns about the incidental catch of yelloweye rockfish. However, updates to the nearshore model, including use of newly available 2016 data in the recalculation of discard ratios by the WCGOP and revised discard mortality rates, indicate there is now sufficient yelloweye rockfish for the Council to consider higher lingcod trip limit increases for 2018. The GMT determined that the projected non-trawl yelloweye rockfish impacts associated with the higher lingcod trip limits would be below what was analyzed in the 2017-18 harvest specifications and management measures, predominantly due to the updated discard mortality rates applied in the nearshore model. The GMT projected ranges of potential lingcod and yelloweye impacts from the revised trip limits to account for some inter-annual variability. The projected alternative trip limits would result in 84 to 108 mt of lingcod and 1.9 to 2.2 mt of yelloweye taken. These projected yelloweye impacts are within the nearshore HG shares for Oregon (1.4 mt) and California (0.6 mt), as well as below the non-nearshore HG (0.7 mt). These impacts will keep the 2018 removals well within the upper range analyzed in the 2015-2016 Biennial Harvest Specifications and Management Measures Final Environmental Impact Statement.

Therefore, the Council recommended and NMFS is implementing, by modifying Table 2 (North) to part 660, subpart E, the following trip limits for lingcod for the LEFG fishery north of 40°10′ N latitude: January-April, 600 lbs/2 months; May-October, 1,400 lbs/2 months; November, 700 lbs; and for December, 400 lbs. The Council also recommended and NMFS is implementing, by modifying Table 3 (North) to part 660, subpart F, the following trip limits for lingcod for the OA fishery north of 40°10′ N latitude: January-April, 300 lbs per month; May-November, 700 lbs per month; and for December, 300 lbs per month.

These increased trip limits will provide increased fishing opportunity specifically for winter time access, and also will provide a steady flow of fish to markets, while still being conservative regarding yelloweye rockfish impacts.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective February 2, 2018. The adjustments to management measures in this document affect commercial fisheries off the coasts of Washington, Oregon and California. No aspect of this action is controversial, and changes of this nature were anticipated in the biennial harvest specifications and management measures established through a notice and comment rulemaking for 2017-18 (82 FR 9634).

Accordingly, for the reasons stated below, NMFS finds good cause to waive prior notice and comment and to waive the delay in effectiveness.

Big Skate Trip Limits for the Shorebased IFQ Program

At its November 2017 meeting, the Council recommended an increase to shorebased IFQ program big skate trip limits be implemented as quickly as possible to allow harvest of big skate to better attain, but not exceed, the 2018 ACL. There was not sufficient time after that meeting to undergo proposed and final rulemaking before this action needs to be in effect. Affording the time necessary for prior notice and opportunity for public comment would prevent NMFS from managing the IFQ program using the best available science to increase harvesting opportunities without exceeding the ACLs for federally managed species in accordance with the PCGFMP and applicable law. These increases to trip limits must be implemented as quickly as possible in 2018, to allow IFQ program fishermen an opportunity to harvest higher limits for big skate coastwide throughout 2018.

It is in the public interest for fishermen to have an opportunity to harvest big skate, which contributes revenue to the coastal communities of Washington, Oregon, and California. This action, if implemented quickly, is anticipated to allow catch of big skate through the end of the 2018 to approach but not exceed the ACL, and allows harvest as intended by the Council, consistent with the best scientific information available, while providing for a responsible level of increased economic opportunity for participants.

LEFG and OA DTL Sablefish Fisheries North of 36° N Lat.

At its November 2017 Council meeting, the Council recommended that a decrease to LEFG and OA sablefish north of 36° N lat. trip limits be implemented as quickly as possible to keep the predicted harvest of sablefish from exceeding the non-trawl HG (and correspondingly the 2018 ACL). NMFS determined that there was not sufficient time after that meeting to undergo proposed and final rulemaking before this action needs to be in effect. Affording the time necessary for prior notice and opportunity for public comment would prevent NMFS from managing the LEFG and OA fixed gear sablefish DTL fishery using the best available science to approach, without exceeding, the ACLs for federally managed species in accordance with the PCGFMP and applicable law. This action, if implemented quickly, is anticipated to allow harvesters to maintain a steady catch of sablefish through the end of the 2018 that will approach but not exceed the ACL, prevent sharp decreases in later season trip limits to maintain catch below the ACL, and allow harvest as intended by the Council, consistent with the best scientific information available.

LEFG and OA Lingcod Fisheries North of 40°10′ N Lat.

At its November 2017 meeting, the Council recommended an increase to LE and OA fixed gear lingcod trip limits north of 40°10′N. lat. be implemented as quickly as possible to allow harvest of lingcod to better attain, but not exceed, the 2018 ACL. There was not sufficient time after that meeting to undergo proposed and final rulemaking before this action needs to be in effect before the start of or as early as possible in the 2018 fishing season. Affording the time necessary for prior notice and opportunity for public comment would prevent NMFS from managing the LE and OA fixed gear fishery using the best available science to increase harvesting opportunities without exceeding the ACLs for federally managed species in accordance with the PCGFMP and applicable law. These increases to trip limits must be implemented as quickly as possible to allow LE and OA fixed gear fishermen an opportunity to harvest higher limits for lingcod, particularly early in 2018, during the winter months.

It is in the public interest for fishermen to have an opportunity to harvest lingcod, which contributes revenue to the coastal communities of Washington, Oregon, and California. This action, if implemented quickly, is anticipated to allow catch of lingcod through the end of the 2018 to approach but not exceed the ACL, and allows harvest as intended by the Council, consistent with the best scientific information available, while providing for a responsible level of increased economic opportunity for participants.

List of Subjects in 50 CFR Part 660

Fisheries, Fishing, and Indian Fisheries.

Dated: January 30, 2018.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 1 (North) to part 660, subpart D, is revised to read as follows:

Table 1 (North) to Part 660, Subpart D—Limited Entry Trawl Rockfish Conservation Areas and Landing Allowances for Non-IFQ Species and Pacific Whiting North of 40°10″ N Lat.

BILLING CODE 3510-22-P

3. Table 1 (South) to part 660, subpart D, is revised to read as follows:

Table 1 (South) to Part 660, Subpart D—Limited Entry Trawl Rockfish Conservation Areas and Landing Allowances for Non-IFQ Species and Pacific Whiting South of 40°10″ N Lat.

BILLING CODE 3510-22-P

4. Table 2 (North) to part 660, subpart E, is revised to read as follows:

Table 2 (North) to Part 660, Subpart E—Non-Trawl Rockfish Conservation Areas and Trip Limits for Limited Entry Fixed Gear North of 40°10″ N Lat.

5. Table 2 (South) to part 660, subpart E, is revised to read as follows:

Table 2 (South) to Part 660, Subpart E—Non-Trawl Rockfish Conservation Areas and Trip Limits for Limited Entry Fixed Gear South of 40°10″ N Lat.

6. Table 3 (North) to part 660, subpart F, is revised to read as follows:

Table 3 (North) to Part 660, Subpart F—Non-Trawl Rockfish Conservation Areas and Trip Limits for Open Access Gears North of 40°10″ N Lat.

7. Table 3 (South) to part 660, subpart F, is revised to read as follows:

Table 3 (South) to Part 660, Subpart F—Non-Trawl Rockfish Conservation Areas and Trip Limits for Open Access Gears South of 40°10″ N Lat.

[FR Doc. 2018-02121 Filed 2-1-18; 8:45 am]

BILLING CODE 3510-22-C